DEPARTMENT OF HOMELAND SECURITY

Federal Emergency Management Agency

44 CFR Part 67

[Docket ID FEMA-2008-0020; Internal Agency Docket No. FEMA-B-1029]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents and others to calculate appropriate flood insurance premium rates for new buildings and the contents in those buildings.

DATES: Comments are to be submitted on or before April 8, 2009.

ADDRESSES: The corresponding preliminary Flood Insurance Rate Map (FIRM) for the proposed BFEs for each community are available for inspection at the community's map repository. The respective addresses are listed in the table below.

You may submit comments, identified by Docket No. FEMA-B-1029, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground: Existing | * Elevation in feet (NGVD) + Elevation in feet (NAVD) # Depth in feet above ground: Modified
City of Fort Yukon, Alaska
Alaska | City of Fort Yukon | Yukon River | Static BFE approximately 198′ south, southeast of the intersection of 1st Avenue and Husky Avenue | None | +445
|  |  | Static BFE at the intersection of Yukon River and Airport Road. | None | +445
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Fort Yukon
Maps are available for inspection at East 7th Street, Fort Yukon, AK 99740.
City of Togiak, Alaska
Alaska | City of Togiak | Togiak Bay | Static BFE approximately 2,427 feet southwest of the southwest end of Togiak Airport | None | +8
|  |  | Static BFE at the intersection of the Limit of Detailed Study and the shoreline | None | +8
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Togiak
Maps are available for inspection at 2nd Avenue G Street, Togiak, AK 99678.

Flooding source(s) | Location of referenced elevation ** | * Elevation in feet (NGVD) + Elevation in feet (NAVD) # Depth in feet above ground: Effective | * Elevation in feet (NGVD) + Elevation in feet (NAVD) # Depth in feet above ground: Modified | Communities affected
Lake and Peninsula Borough, Alaska, and Incorporated Areas
Chignik Lake | Entire Shoreline | None | ‸16 | Lake and Peninsula Borough.
* National Geodetic Vertical Datum.
+ North American Vertical Datum.
# Depth in feet above ground.
‸ Local Tidal Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Lake and Peninsula Borough
Maps are available for inspection at P.O. Box 495, King Salmon, AK 99613.
Monroe County, Indiana, and Incorporated Areas
Beanblossom Creek | Approximately 14,256 feet downstream of Pike Road | None | +580 | Unincorporated Areas of Monroe County.
| At Old State Road 37 | None | +599
Clear Creek | Approximately 400 feet downstream of Dillman Road | None | +616 | Unincorporated Areas of Monroe County, City of Bloomington.
| Approximately 350 feet upstream of First Street | None | +731
East Branch Jackson Creek | At confluence with Jackson Creek | +738 | +739 | City of Bloomington.
| Approximately 520 feet upstream of confluence with Jackson Creek | +738 | +739
East Fork Jackson Creek | Approximately 100 feet upstream of Moores Pike | None | +822 | City of Bloomington.
| Approximately 400 feet upstream of Moores Pike | None | +822
Griffy Creek | Approximately 430 feet upstream of North Dunn Street | None | +602 | City of Bloomington.
| Approximately 2,760 feet upstream of North Headley Road | None | +602
Jacks Defeat Creek | Approximately 400 feet upstream of confluence with Beanblossom Creek | None | +563 | Unincorporated Areas of Monroe County, Town of Ellettsville, Town of Stineville.
| Approximately 550 feet downstream of Harrison Road | +707 | +706
Jackson Creek | At confluence with Clear Creek | None | +634 | Unincorporated Areas of Monroe County, City of Bloomington.
| Approximately 1,120 feet upstream of Buick Cadillac Boulevard | None | +772
Sinking Creek | At West Third Street | None | +855 | City of Bloomington.
| Approximately 420 feet upstream of West Third Street | None | +855
Stout Creek | At confluence with Beanblossom Creek | None | +581 | Unincorporated Areas of Monroe County.
| Approximately 7,000 feet upstream of confluence with Beanblossom Creek | None | +584
West Branch Jackson Creek | At confluence with Jackson Creek | +738 | +739 | City of Bloomington.
| Approximately 220 feet upstream of Covenanter Drive | None | +796
West Fork Clear Creek | At confluence with Clear Creek | +645 | +648 | Unincorporated Areas of Monroe County, City of Bloomington.
| Approximately 1,780 feet upstream of Sudburg Lane | None | +737
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Bloomington
Maps are available for inspection at City Hall, 401 North Morton Street, Bloomington, IN 47404.
Town of Ellettsville
Maps are available for inspection at Town Hall, 221 North Sale Street, Ellettsville, IN 47429.
Town of Stineville
Maps are available for inspection at Town Hall, 7835 West Buskirk Street, Stinesville, IN 47464.
Unincorporated Areas of Monroe County
Maps are available for inspection at Monroe County Courthouse, Room 322, 100 West Fifth Street, Bloomington, IN 47404.
Garfield County, Oklahoma, and Incorporated Areas
Boggy Creek Tributary (West Branch) | Approximately 481 feet upstream of the confluence of Boggy Creek Tributary West Branch and Boggy Creek Tributary | None | +1298 | City of Enid.
| Approximately 885 feet upstream of the confluence of Boggy Creek Tributary West Branch and Boggy Creek Tributary | None | +1301
Tributary A to Boggy Creek Tributary | Approximately 663 feet upstream of the confluence of Tributary A of Boggy Creek Tributary and Boggy Creek Tributary | None | +1309 | City of Enid.
| Approximately 1,168 feet upstream of the confluence of Tributary A to Boggy Creek Tributary and the Boggy Creek Tributary | None | +1313
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Enid
Maps are available for inspection at 401 Owen Garriott Road, Enid, OK 73702.

(Catalog of Federal Domestic Assistance No. 97.022, “Flood Insurance.”)

Dated: December 31, 2008.
Michael K. Buckley,
Acting Assistant Administrator, Mitigation Directorate, Department of Homeland Security, Federal Emergency Management Agency.

[FR Doc. E9-74 Filed 1-7-09; 8:45 am]

BILLING CODE 9110-12-P